DEPARTMENT OF HEALTH AND HUMAN SERVICES

Agency for Toxic Substances and Disease Registry

[Docket No. ATSDR-2019-0005]

Proposed Substances To Be Evaluated for Toxicological Profile Development

AGENCY: Agency for Toxic Substances and Disease Registry (ATSDR), Department of Health and Human Services (HHS).

ACTION: Request for comments on proposed substances to be evaluated for Toxicological Profile development.

SUMMARY: The Agency for Toxic Substances and Disease Registry (ATSDR) within the Department of Health and Human Services is initiating the development of another set of Toxicological Profiles. This notice solicits public nominations of substances for ATSDR to evaluate for Toxicological Profile development. ATSDR will consider nominations from the Substance Priority List (available at https://www.atsdr.cdc.gov/SPL/). ATSDR also accepts nominations for non-Comprehensive Environmental Response, Compensation, and Liability Act of 1980 (CERLA) substances that may have public health implications, on the basis of ATSDR's authority to prepare Toxicological Profiles for substances not found at sites on the CERCLA National Priorities List. For more information on the CERCLA National Priorities List, visit https://www.epa.gov/superfund/superfund-national-priorities-list-npl. The agency will do so in order to establish and maintain an inventory of literature, research, and studies on the health effects of toxic substances, to respond to requests for consultation, and to support the site-specific response actions conducted by ATSDR, as otherwise necessary.

DATES: Nominations from the Substance Priority List and/or additional substances must be received by May 20, 2019.

ADDRESSES: You may submit nominations, identified by Docket No. ATSDR-2019-0005, by any of the following methods:

• Internet: Access the Federal eRulemaking portal at www.regulations.gov. Follow the instructions for submitting comments.

• Mail: Division of Toxicology and Human Health Sciences, Agency for Toxic Substances and Disease Registry, 1600 Clifton Rd. NE, Mail Stop S102-1, Atlanta, GA, 30329-4027. Attn: Docket No. ATSDR-201x-xxxx.

Instructions: All submissions must include the agency name and docket number for this notice. All relevant comments will be posted without change. This means that no confidential business information or other confidential information should be submitted in response to this notice. Refer to the section Submission of Nominations (below) for the specific information required.

FOR FURTHER INFORMATION CONTACT: For further information, please contact Susan Ingber, Agency for Toxic Substances and Disease Registry, Division of Toxicology and Human Health Sciences, 1600 Clifton Rd. NE, Mail Stop S102-1, Atlanta, GA, 30329-4027, Email: ATSDRToxProfileFRNs@cdc.gov; Phone: 1-800-232-4636.

SUPPLEMENTARY INFORMATION: The Superfund Amendments and Reauthorization Act of 1986 (SARA) [42 U.S.C. 9601 et seq.] amended the Comprehensive Environmental Response, Compensation, and Liability Act of 1980 (CERCLA or Superfund) [42 U.S.C. 9601 et seq.] by establishing certain requirements for ATSDR and the U.S. Environmental Protection Agency (EPA) with regard to hazardous substances most commonly found at facilities on the CERCLA National Priorities List (NPL) (for more information, visit https://www.epa.gov/superfund/superfund-national-priorities-list-npl). Among these statutory requirements is a mandate for the Administrator of ATSDR to prepare Toxicological Profiles for each substance included on the Priority List of Hazardous Substances (also known as the Substance Priority list (SPL)). This list identifies 275 hazardous substances found at NPL sites that ATSDR and EPA have determined pose the most significant current potential threat to human health.

Substances To Be Evaluated for Toxicological Profile Development

Each year, ATSDR develops a list of substances to be considered for Toxicological Profile development. The nomination process includes consideration of all substances on ATSDR's SPL, as well as other substances nominated by the public. For more information on ATSDR's SPL, visit https://www.atsdr.cdc.gov/SPL/.

Submission of nominations for Toxicological Profile development: Today's notice invites voluntary public nominations for substances included on the SPL and for substances not listed on the SPL. All nominations should include the full name of the nominator, affiliation, and email address. When nominating a non-SPL substance, please include the rationale for the nomination. Please note that email addresses will not be posted on regulations.gov. ATSDR will evaluate data and information associated with nominated substances and will determine the final list of substances to be chosen for Toxicological Profile development. Substances will be chosen according to ATSDR's specific guidelines for selection. These guidelines can be found in the Selection Criteria, which may be accessed at www.atsdr.cdc.gov/toxprofiles/guidance/ATSDR_TP_Selection%20Criteria.pdf.

Pamela I. Protzel Berman,
Director, Office of Policy, Partnerships and Planning, Agency for Toxic Substances and Disease Registry.

[FR Doc. 2019-07916 Filed 4-18-19; 8:45 am]

BILLING CODE 4163-70-P